DEPARTMENT OF COMMERCE

National Oceanic and Atmospheric Administration

50 CFR Part 660

[I.D. 011805B]

RIN 0648-AS58

Pacific Fishery Management Council; Public Meetings and Hearings

AGENCY: National Marine Fisheries Service (NMFS), National Oceanic and Atmospheric Administration (NOAA), Commerce.

ACTION: Notice of availability of reports; public meetings and hearings.

SUMMARY: The Pacific Fishery Management Council (Council) has begun its annual preseason management process for the 2005 ocean salmon fisheries. This document announces the availability of Council documents as well as the dates and locations of Council meetings and public hearings comprising the Council's complete schedule of events for determining the annual proposed and final modifications to ocean salmon fishery management measures. The agendas for the March and April Council meetings will be published in subsequent Federal Register documents prior to the actual meetings.

DATES: Written comments on the salmon management options must be received by March 29, 2005, at 4:30 p.m. Pacific Time.

ADDRESSES: Documents will be available from and written comments should be sent to Mr. Donald Hansen, Chairman, Pacific Fishery Management Council, 7700 NE Ambassador Place, Suite 200, Portland, OR 97220-1384, telephone: 503-820-2280 (voice) or 503-820-2299 (fax). For specific meeting and hearing locations, see SUPPLEMENTARY INFORMATION.

FOR FURTHER INFORMATION CONTACT: Mr. Chuck Tracy, telephone: 503-820-2280.

SUPPLEMENTARY INFORMATION:

Schedule for Document Completion and Availability

March 1, 2005: “Review of 2004 Ocean Salmon Fisheries” and “Preseason Report I-Stock Abundance Analysis for 2005 Ocean Salmon Fisheries” will be available to the public from the Council office and posted on the Council website at http://www.pcouncil.org.

March 22, 2005: “Preseason Report II-Analysis of Proposed Regulatory Options for 2005 Ocean Salmon Fisheries” and public hearing schedule will be mailed to the public and posted on the Council website at http://www.pcouncil.org. The report will include a description of the adopted salmon management options and a summary of their biological and economic impacts.

April 22, 2005: Council adopted ocean salmon fishing management measures will be posted on the Council website at http://www.pcouncil.org.

May 1, 2005: Federal regulations will be implemented and “Preseason Report III-Analysis of Council Adopted Ocean Salmon Management Measures for 2005 Ocean Salmon Fisheries” will be available from the Council office and posted on the Council web site at http://www.pcouncil.org.

Meetings and Hearings

January 18-21, 2005: The Salmon Technical Team (STT) met at the Council office in a public work session to draft “Review of 2004 Ocean Salmon Fisheries” and to consider any other estimation or methodology issues pertinent to the 2005 ocean salmon fisheries.

February 8-11, 2005: The STT will meet at the Council office in a public work session to draft “Preseason Report I-Stock Abundance Analysis for 2005 Ocean Salmon Fisheries” and to consider any other estimation or methodology issues pertinent to the 2005 ocean salmon fisheries.

March 6-11, 2005: The Council and advisory entities will meet at the Doubletree Hotel Sacramento, 2001 Point West Way, Sacramento, CA 95815, Phone: (916) 929-8855, to adopt the 2005 salmon management options for public review.

March 28-30, 2005: Public hearings will be held to receive comments on the proposed ocean salmon fishery management options adopted by the Council. All public hearings begin at 7 p.m. at the following locations, with sites and dates to be specified at a later time: Westport, WA; Coos Bay, OR, and Fort Bragg, CA. Additional hearings may be scheduled at a later date.

April 3-8, 2005: Council and advisory entities meet at the Sheraton Tacoma Hotel, 1320 Broadway Plaza, Tacoma, WA 98402 Phone: (253) 572-3200, to adopt 2005 management measures for implementation by NMFS.

April 5, 2005: Testimony on the management options is taken during the Council meeting at the Sheraton Tacoma Hotel, Tacoma, WA.

Although non emergency issues not contained in the STT meeting agendas may come before the STT for discussion, those issues may not be the subject of formal STT action during these meetings. STT action will be restricted to those issues specifically listed in this document and to any issues arising after publication of this document requiring emergency action under section 305(c) of the Magnuson-Stevens Fishery Conservation and Management Act, provided the public has been notified of the STT's intent to take final action to address the emergency.

Special Accommodations

The meetings are physically accessible to people with disabilities. Requests for sign language interpretation or other auxiliary aids should be directed to Ms. Carolyn Porter at 503-820-2280 (voice), or 503-820-2299 (fax) at least five days prior to the meeting date.

Authority: 16 U.S.C. 1801 et. seq.

Dated: January 18, 2005.
Emily Menashes,
Acting Director, Office of Sustainable Fisheries, National Marine Fisheries Service.

[FR Doc. 05-1337 Filed 1-25-05; 8:45 am]

BILLING CODE 3510-22-S